DEPARTMENT OF TRANSPORTATION

Federal Highway Administration

23 CFR Parts 192, 470, 625, 634, 650, 655, 772, 971, 972, 973, 1206, 1208, 1210, and 1215

[FHWA Docket No. FHWA-2009-0028]

RIN 2125-AF30

Address Correction

AGENCY: Federal Highway Administration (FHWA), DOT.

ACTION: Final rule.

SUMMARY: The FHWA is amending a number of its regulations to reflect the move of DOT's headquarters site in Washington, DC.

DATES: Effective Date: June 16, 2009.

FOR FURTHER INFORMATION CONTACT: Jennifer Outhouse, Office of Chief Counsel, 1200 New Jersey Avenue, SE., Washington, DC 20590; (202) 366-1381.

SUPPLEMENTARY INFORMATION: This publication makes corrections to the FHWA regulations to update the DOT headquarters address. Since this amendment relates to departmental management, organization, procedure, and practice, notice and comment are unnecessary under 5 U.S.C. 553(b). Further, since the amendment merely makes technical corrections and updates, the FHWA finds good cause under 5 U.S.C. 553(d)(3) for the final rule to be effective on the date of publication in the Federal Register.

Regulatory Analyses and Notices

A. Executive Order 12866 and DOT Regulatory Policies and Procedures

This final rule is not considered a significant regulatory action under Executive Order 12866 and DOT regulatory Policies and Procedures (44 FR 11034). It was not reviewed by the Office of Management and Budget. There are no costs associated with this rule.

B. Executive Order 13132

This final rule has been analyzed in accordance with the principles and criteria contained in Executive Order 13132 (Federalism). This final rule does not have a substantial direct effect on, or sufficient federalism implications for, the States, nor would it limit the policymaking discretion of the States. Therefore the consultation requirements of Executive Order 13132 do no apply.

C. Executive Order 13175

This final rule has been analyzed in accordance with the principles and criteria contained in Executive Order 13175 (Consultation and Coordination with Indian Tribal Governments). Because this final rule does not significantly or uniquely affect the communities of the Indian tribal government and does not impose substantial direct compliance costs, the funding and consultations requirements of Executive Order 13175 do not apply.

D. Regulatory Flexibility Act

Because no notice of proposed rulemaking is required for this rule under the Administrative Procedure Act, 5 U.S.C. 553, the provisions of the Regulatory Flexibility Act (5 U.S.C. 601 et seq.) do not apply. We also do not believe this rule would impose any costs on small entities because it simply makes nonsubstantive corrections. Therefore, the FHWA certifies this final rule will not have a significant economic impact on a substantial number of small entities.

E. Paperwork Reduction Act

This rule contains no information collection requirements under the Paperwork Reduction Act of 1995 (44 U.S.C. 3501-3520).

F. Unfunded Mandates Reform Act

The Federal Highway Administration has determined that the requirements of the Title II of the Unfunded Mandates Reform Act of 1995 do no apply to this rulemaking.

List of Subjects

23 CFR Part 192

Highways, Reporting and recordkeeping requirements.

23 CFR Part 230, Subpart C, Appendix A

Highways, Reporting and recordkeeping requirements.

23 CFR Part 470

Highways, Reporting and recordkeeping requirements.

23 CFR Part 625

Highways, Reporting and recordkeeping requirements.

23 CFR Part 634

Highways, Reporting and recordkeeping requirements.

23 CFR Part 650

Highways, Reporting and recordkeeping requirements.

23 CFR Part 655

Highways, Reporting and recordkeeping requirements.

23 CFR Part 772

Highways, Reporting and recordkeeping requirements.

23 CFR Part 971

Highways, Reporting and recordkeeping requirements.

23 CFR Part 972

Highways, Reporting and recordkeeping requirements.

23 CFR Part 973

Highways, Reporting and recordkeeping requirements.

23 CFR Part 1206

Highways, Reporting and recordkeeping requirements.

23 CFR Part 1208

Highways, Reporting and recordkeeping requirements.

23 CFR Part 1210

Highways, Reporting and recordkeeping requirements.

23 CFR Part 1215

Highways, Reporting and recordkeeping requirements.

Issued on: April 21, 2009.
Jeffrey F. Paniati,
Acting Deputy Administrator, Federal Highway Administration.

In consideration of the foregoing, the FHWA amends Parts 192, 470, 625, 634, 650, 655, 772, 971, 972, 973, 1206, 1208, 1210, and 1215 of title 23, Code of Federal Regulations, as follows:

TITLE 23—HIGHWAYS

PARTS 192, 470, 625, 634, 650, 655, 772, 971, 972, 973, 1206, 1208, 1210, AND 1215 [AMENDED]

§§ 192.10, 470.105, 625.4, 634.2, 650.317, 655.603, 772.17, 971.212, 972.212, 973.212, 1206.5, 1208.6, 1210.10, and 1215.6 [Amended]

1. In Title 23, remove text specified in the “Remove” column and add in its place the text in the “Add” column in the sections indicated below:

Section | Remove | Add
192.10(b) | 400 Seventh Street, SW | 1200 New Jersey Avenue, SE.
Part 230, Subpart C, Appendix A, FN 1 | 400 7th St., SW | 1200 New Jersey Avenue, SE.
470.105(a) | 400 Seventh Street, SW | 1200 New Jersey Avenue, SE.
625.4(d) introductory text | 400 Seventh Street, SW., Washington, DC, in Room 2200 |
634.2 in the definition of High-visibility safety apparel | 400 Seventh Street, SW., Room 4232 | 1200 New Jersey Avenue, SE., Washington, DC.
650.317(a) | 400 Seventh Street, SW., Washington, DC, in Room 2200 | 1200 New Jersey Avenue, SE.
655.603(c), footnote 1 | 400 Seventh Street, SW | 1200 New Jersey Avenue, SE., Washington, DC.
772.17(a) | 400 Seventh Street, SW., Room 3240 | 1200 New Jersey Avenue, SE.
971.212(b), footnote 3 | Room 3407, 400 Seventh Street, SW | 1200 New Jersey Avenue, SE.
972.212(b), footnote 3 | Room 3407, 400 Seventh Street, SW | 1200 New Jersey Avenue, SE.
973.212(c), footnote 3 | Room 3407, 400 Seventh Street, SW | 1200 New Jersey Avenue, SE.
1206.5(b) | 400 Seventh Street, SW | 1200 New Jersey Avenue, SE.
1208.6(b) | 400 Seventh Street, SW | 1200 New Jersey Avenue, SE.
1210.10(b) | 400 Seventh Street, SW | 1200 New Jersey Avenue, SE.
1215.6(b) | 400 Seventh Street, SW | 1200 New Jersey Avenue, SE.

[FR Doc. E9-13990 Filed 6-15-09; 8:45 am]

BILLING CODE 4910-22-P